FEDERAL COMMUNICATIONS COMMISSION

47 CFR Part 73

[DA 02-712, MM Docket No. 01-162, RM-10183]

Digital Television Broadcast Service; Cocoa, FL

AGENCY: Federal Communications Commission.

ACTION: Final rule.

SUMMARY: The Commission, at the request of Good Life Broadcasting, Inc., licensee of station WTGL-TV, substitutes DTV channel 53c for DTV channel 51. See 66 FR 39726, August 1, 2001. DTV channel 53c can be allotted to Cocoa, Florida, in compliance with the principle community coverage requirements of Section 73.625(a) at reference coordinates (28-35-12 N. and 81-04-58 W.) with a power of 13.0, HAAT of 514 meters and with a DTV service population of 1876 thousand.

With this action, this proceeding is terminated.

DATES: Effective May 16, 2002.

FOR FURTHER INFORMATION CONTACT: Pam Blumenthal, Media Bureau, (202) 418-1600.

SUPPLEMENTARY INFORMATION: This is a synopsis of the Commission's Report and Order, MM Docket No. 01-162, adopted March 25, 2002, and released April 1, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for part 73 continues to read as follows:

Authority: 47 U.S.C. 154, 303, 334, 336.

§ 73.622 [Amended]

2. Section 73.622(b), the Table of Digital Television Allotments under Florida, is amended by removing DTV channel 51 and adding DTV channel 53c at Cocoa.

Federal Communications Commission.
Barbara A. Kreisman,
Chief, Video Division, Media Bureau.

[FR Doc. 02-7978 Filed 4-2-02; 8:45 am]

BILLING CODE 6712-01-P